DEPARTMENT OF ENERGY

Federal Energy Regulatory Commission

[Docket Nos. CP05-360-000, CP05-357-000, CP05-358-000 and CP05-359-000]

Creole Trail LNG, L.P. and Cheniere Creole Trail Pipeline Company; Notice of Applications

June 2, 2005.

Take notice that on May 23, 2005, Creole Trail LNG, L.P. (Creole Trail LNG) filed an application in Docket No. CP05-360-000 seeking authorization to site, construct and operate a liquefied natural gas (LNG) terminal and associated facilities to import and deliver 3.3 Bcf per day of natural gas. The terminal and associated facilities will be located in Cameron Parish, Louisiana as the place of importation of foreign source LNG. Creole Trail LNG made the request to site, construct and operate the LNG terminal pursuant to section 3(a) of the Natural Gas Act (NGA) and Part 153 of the Commission's regulations.

Also, take notice that on May 23, 2005, Cheniere Creole Trail Pipeline Company (Cheniere Creole Trail) filed in Docket No. CP05-357-000, an application seeking a certificate of public convenience and necessity, pursuant to section 7(c) of the NGA and Part 157 of the Commission's regulations, to construct and operate: (1) 116.8 miles of dual 42-inch pipeline connecting with the Creole Trail LNG terminal; (2) 46.9 miles of single 42-inch pipeline extending from the Sabine Pass LNG terminal, under construction in Cameron Parish, Louisiana, to an interconnection with the dual 42-inch pipeline; and (3) a 6.8-mile, 20-inch lateral line extending from the dual 42-inch line to the proposed Dominion Gas Storage facility. The proposed pipeline facilities will run through Cameron, Calcasieu, Beauregard, Jefferson Davis, Allen, and Acadia Parishes, Louisiana. In Docket No. CP05-358-000, Cheniere Creole Trail requests a blanket certificate under section 7(c) of the NGA and Part 157, Subpart F of the Commission's regulations to perform routine activities in connection with the future construction, operation and maintenance of the proposed pipeline. In Docket No. CP05-359-000, Cheniere Creole Trail requests a blanket certificate pursuant to section 7(c) of the NGA and Part 284, Subpart G of the Commission's regulations to provide open access natural gas transportation services.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

In Docket No. PF05-8-000, Creole Trail LNG and Cheniere Creole Trail participated in a pre-filing National Environmental Policy Act review of the proposed project to identify and resolve potential landowner and environmental problems before the applications were filed.

Any questions regarding these applications should be directed to Patricia Outtrim, Cheniere LNG, Inc., 717 Texas Avenue, Suite 3100, Houston, Texas 77002, (713) 659-1361 or Lisa Tonery, King & Spalding LLP, 1185 Avenue of the Americas, New York, NY 10036, (212) 556-2307.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper; see, 18 CFR 385.2001(a)(1)(iii) and the instructions on the Commission's Web site under the “e-Filing” link. The Commission strongly encourages electronic filings.

Comment Date: 5 p.m. Eastern Time on June 23, 2005.

Linda Mitry,
Deputy Secretary.

[FR Doc. E5-2920 Filed 6-7-05; 8:45 am]

BILLING CODE 6717-01-P